DEPARTMENT OF LABOR

Veterans' Employment and Training Service

Proposed Information Collection Request; HIRE Vets Medallion Program

AGENCY: Veterans' Employment and Training Service (VETS), Labor.

ACTION: Request for public comments.

SUMMARY: VETS is publishing elsewhere in this issue of the Federal Register a Notice of Proposed Rulemaking to propose regulations implementing the Honoring Investments in Recruiting and Employing American Military Veterans Act of 2017. The proposal allows the public 30 days to comment on the proposed regulations including the proposal's collections of information contained in the rule. Under the Paperwork Reduction Act of 1995, Federal agencies are required to publish a notice in the Federal Register concerning each proposed collection of information and to allow 60 days for public comment in response to the notice. This notice allows the public 60 days to comment on the collections of information contained in or associated with implementing the VETS proposal.

DATES: Comments must be submitted (postmarked, sent, or received) by October 17, 2017.

ADDRESSES: A copy of this Information Collection Request (ICR) with applicable supporting documentation; including a description of the likely respondents, proposed frequency of response, and estimated total burden may be obtained free of charge from the RegInfo.gov Web site at http://www.reginfo.gov/public/do/PRAViewICR?ref_nbr=20201707-1293-001 (this link will only become active on the day following publication of this notice) or by contacting Randall Smith by telephone at (202) 693-4700.

Electronically: You may submit written comments and attachments electronically at HIRE VETS.NPRM.gov. Include “ICR Comments” in the subject line of the message.

Mail, hand delivery, express mail, messenger, or courier service: Randall Smith, Veterans' Employment and Training Service, Room S-1325, 200 Constitution Avenue NW., Washington, DC 20210; Telephone (202) 693-4700 (this is not a toll-free number).

FOR FURTHER INFORMATION CONTACT: Randall Smith; HIREVETS.NPRM@dol.gov (202) 693-4700, TTY 202-693-8064, (these are not toll-free numbers).

SUPPLEMENTARY INFORMATION:

Background: VETS is publishing a Notice of Proposed Rulemaking (NPRM), elsewhere in this issue of the Federal Register, proposing regulations implementing the Honoring Investments in Recruiting and Employing American Military Veterans Act of 2017 (HIRE Vets Act of 2017 or Act). The HIRE Vets Act of 2017 requires VETS to annually solicit and accept voluntary information from employers for consideration of employers to receive a HIRE Vets Medallion Award. The Act establishes specific criteria at two levels (gold and “platinum) for large employers (those with 500 or more employees) and allows VETS discretion in establishing criteria for small and medium employers to qualify for similar awards. The NPRM proposes the application process and criteria that VETS intends to use to receive, review, and process applications, and to verify the applicant's information. The public has 30 days to comment on the NPRM.

This Notice allows the public sixty days, as required by PRA, to comment on the collections of information in or associated with implementing the proposed rule.

Desired Focus of Comments: VETS is soliciting comments concerning the proposed approved information collection request. VETS is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology e.g., permitting electronic submissions of responses.

Proposed Collection of Information Requirements: The NPRM proposes the application process and criteria that VETS intends to use to receive, review, and process applications, verify the information provided and award the HIRE Vets Medallion Award to those employers meeting the criteria and deserving of the award. VETS developed the HIRE Vets application Forms [VETS-1011LP, VETS-1011LG, VETS-1011MP, VETS-1011MG, VETS-1011SP, VETS-1011SG] for employers to complete and submit to VETS to fulfill the regulatory requirements to receive an award.

The proposed rule provides specific award criteria for the large, medium, and small sized employers to qualify for the gold and platinum awards. Although the number of criteria an employer is required to satisfy in the proposed rule differs by award, the large employer criteria established by statute are generally incorporated across the large employer, medium employer, and small employer awards. The Application(s) would require employers to provide information to meet award criteria dependent upon the size of the employer and the award the employer is requesting, gold or platinum. The following table provides the corresponding regulatory citation.

Proposed Regulatory Provision
Employer size | Gold award | Platinum award
Large | § 1011.100 (a) | § 1011.100 (b)
Medium | § 1011.105 (a) | § 1011.105 (b)
Small | § 1011.110 (a) | § 1011.110 (b)

The proposal also requires employers to supply additional information to VETS in support of the application for the HIRE Vets Medallion Award (§ 1011.215 (b)), or any time VETS becomes aware of facts that indicate that the information provided by an employer in its application was incorrect or that the employer does not satisfy the requirements at § 1011.120 (§ 1011.225). Also, employers are required to maintain information relied upon to complete the application for two years after the application is submitted to VETS (Subpart G § 1011.600). Finally, the Act establishes a fund, designated as the “HIRE Vets Medallion Award Fund” and requires VETS to assess a reasonable fee from the applicants to cover the costs associated with carrying out the HIRE Vets Medallion program. The NPRM provides the fee amount and how to submit the fee.

Current Actions: This notice invites public comments on the information collections contained in or associated with implementing the HIRE Vets proposed rule. Comments must be written to receive consideration, and they will be summarized and included in a future request for OMB approval of the of this information collection. Submitted comments will also be a matter of public record and posted on the Internet, without redaction. VETS encourages commenters not to include personally identifiable information, confidential business data, or other sensitive statements/information in any comments.

Type of Review: New.

Agency: DOL-VETS.

Title: Honoring Investments in Recruiting and Employing American Military Veterans Act.

ICR Reference Number: 20201707-1293-001.

Total Estimated Number of Annualized Respondents: 7,036.

Total Estimated Number of Annualized Responses: 34,245.

Total Estimated Number of Annual Burden Hours: 58,716.

Response Frequency: On Occasion.

Total Number of Annual Other Costs Burden: $1,847,746.

Authority: 44 U.S.C. 3506(c)(2)(A).

Signed in Washington, DC, this August 10, 2017.
George Triebsch,
Deputy Director, Field Operations, Veterans' Employment and Training Service.

[FR Doc. 2017-17248 Filed 8-17-17; 8:45 am]

BILLING CODE 4510-79-P